DEPARTMENT OF THE INTERIOR

National Park Service

[NPS-WASO-NAGPRA-NPS0038693; PPWOCRADN0-PCU00RP14.R50000]

Notice of Inventory Completion: U.S. Army Corps of Engineers, Sacramento District, Sacramento, CA

AGENCY: National Park Service, Interior.

ACTION: Notice.

SUMMARY: In accordance with the Native American Graves Protection and Repatriation Act (NAGPRA), the U.S. Army Corps of Engineers, Sacramento District, has completed an inventory of human remains and associated funerary objects and has determined that there is a cultural affiliation between the human remains and associated funerary objects and Indian Tribes or Native Hawaiian organizations in this notice.

DATES: Repatriation of the human remains and associated funerary objects in this notice may occur on or after October 15, 2024.

ADDRESSES: Dr. Michelle Fitzgerald, Physical Anthropologist and NAGPRA Liaison, U.S. Army Corps of Engineers, Sacramento District, 1325 J Street, Sacramento, CA 95814, telephone (916) 557-7114, email Michelle.K.Fitzgerald@usace.army.mil.

SUPPLEMENTARY INFORMATION: This notice is published as part of the National Park Service's administrative responsibilities under NAGPRA. The determinations in this notice are the sole responsibility of the U.S. Army Corps of Engineers, Sacramento District, and additional information on the determinations in this notice, including the results of consultation, can be found in its inventory or related records. The National Park Service is not responsible for the determinations in this notice.

Abstract of Information Available

Human remains representing, at least, 51 individuals have been identified from site CA-GLE-10/H, in Glenn County, CA. The 1,842 associated funerary objects are: 337 beads, 17 bear claws, one botanical, one bottle, five buckles, six buckles with leather, one bullet mold, 321 buttons, nine charmstones, one clock, two cloth/textile fragments, 67 coffin components, 41 coins, one comb, one cufflink, eight fastening caps, 13 faunal bones, one piece of glass, one harmonica, three lithic flakes, 10 lithic tools, 79 metal objects, one nail, 18 ornamental items, one pencil lead, three pestles, one pipe stem, three pocket knives, two pocket watches, 22 projectile points, five rings, one rosette, one rubber ball, one scissors, one Shaman's purse, 69 unmodified shells, 489 shell beads, 223 shell ornaments/pendants, 10 shoe fragments, seven unmodified stones, two modified stones, one telescope fragment, one thimble, one tube, 18 utensils, five violin fragments, one lot of trade and shell beads, one lot of bead and button fragments, six lots of beads, five lots of coffin components, one lot of metal objects, 14 lots of shell beads, one lot of burial soil, and one lot of violin fragments.

In 1961, a salvage excavation conducted by archaeologists affiliated with San Francisco State College, now San Francisco State University, took place in the Brownell Indian Cemetery (CA-GLE-10/H) which removed human remains from multiple unmarked burials, as well as the remains of Mr. James (Jim) Brown, identified later through written accounts of his funeral and funerary objects. The individuals and associated funerary objects from this investigation have been in the custody of San Francisco State University since their excavation. Black Butte Dam and Lake staff and a Sacramento District archaeologist collected additional human remains and associated funerary objects in 1989, after CA-GLE-10/H was accidently impacted by heavy machinery. These human remains and cultural items were housed at the Black Butte Dam and Lake Project Office and Sacramento District Office until they were transferred in 2018 by the Sacramento District to the Veterans Curation Program (VCP) in San Mateo, CA, where they remain.

Human remains representing, at least, one individual have been identified from site CA-GLE-11, in Glenn County, CA. The 37 associated funerary objects are: one charmstone, one clam shell disc bead, five faunal bones, one piece of glass, nine lithic tools, five manos, three pecking stones, five pestles, two petal stones, and five projectile points.

In 1960, San Francisco State College, under contract to the National Park Service, initiated archaeological excavations at site CA-GLE-11 as part of the salvage archaeology program for the proposed Black Butte Reservoir. The human remains and associated funerary objects have been in the custody of San Francisco State College, now San Francisco State University, since their excavation.

Human remains representing, at least, nine individuals have been identified from site CA-TEH-10, in Tehama County, CA. The 1,881 associated funerary objects are: three beads, 36 botanical items, 12 pieces of charcoal, two pieces of baked clay, 466 faunal bones, 117 fire-cracked rocks, two groundstone, one hammerstone, six lithic cores, 765 lithic flakes, 14 lithic tools, one mano, one piece of metal hardware, one metate, five mortars, 17 nails, three pestles, one piece of plastic, 32 projectile points/fragments, nine soil samples, three unmodified stones, one piece of wood, 23 lots of botanicals, 280 lots of charcoal, two lots of faunal bones, two lots of radiocarbon samples, 65 lots of soil, one lot of mixed soil and charcoal, and 10 lots of wood.

CA-TEH-10 was excavated in 1983 and 1986 by archaeologists affiliated with California State University, Sacramento under contract with the Sacramento District. The site was comprised of a large burial ground with two cemeteries, the human remains from which were thought to have been reburied in 1985 and 1990 at a private cemetery. However, some cultural materials recovered from the site were transferred to the California State University, Sacramento's Archaeological Study Center for curation as Accession #81-138. In 2021, the Sacramento District transferred these items to the VCP in San Mateo, CA. During review of the items, Sacramento District staff identified human remains. The human remains and associated funerary objects are currently housed at the VCP.

No information is available that would indicate that any of the human remains or cultural items in this notice have been treated with potentially hazardous substances.

Cultural Affiliation

Based on the information available and the results of consultation, cultural affiliation is clearly identified by the information available about the human remains and associated funerary objects described in this notice.

Determinations

The U.S. Army Corps of Engineers, Sacramento District, has determined that:

• The human remains described in this notice represent the physical remains of 61 individuals of Native American ancestry.

• The 3,760 objects described in this notice are reasonably believed to have been placed intentionally with or near individual human remains at the time of death or later as part of the death rite or ceremony.

• There is a connection between the human remains and associated funerary objects described in this notice and the Grindstone Indian Rancheria of Wintun-Wailaki Indians of California and the Paskenta Band of Nomlaki Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 15, 2024. If competing requests for repatriation are received, the U.S. Army Corps of Engineers, Sacramento District, must determine the most appropriate requestor prior to repatriation. Requests for joint repatriation of the human remains and associated funerary objects are considered a single request and not competing requests. The U.S. Army Corps of Engineers, Sacramento District, is responsible for sending a copy of this notice to the Indian Tribes and Native Hawaiian organizations identified in this notice.

Authority: Native American Graves Protection and Repatriation Act, 25 U.S.C. 3003, and the implementing regulations, 43 CFR 10.10.

Dated: September 5, 2024.
Melanie O'Brien,
Manager, National NAGPRA Program.

[FR Doc. 2024-20871 Filed 9-12-24; 8:45 am]

BILLING CODE 4312-52-P